DEPARTMENT OF HOMELAND SECURITY

Federal Emergency Management Agency

Radiological Emergency Preparedness: Planning and Preparing for a Fast-Breaking Event

AGENCY: Federal Emergency Management Agency, Emergency Preparedness and Response Directorate, Department of Homeland Security.

ACTION: Notice with request for comments.

SUMMARY: Pursuant to completion of the Radiological Emergency Preparedness (REP) Program exercise evaluation criteria, the Federal Emergency Management Agency (FEMA) is proposing a means to evaluate the capability of Offsite Response Organizations (ORO) to respond to a fast-breaking event at a commercial nuclear power plant.

DATES: FEMA must receive comments on or before October 20, 2003.

ADDRESSES: You may submit your comments to the Rules Docket Clerk, Office of the General Counsel, Federal Emergency Management Agency, Room 840, 500 C Street, SW., Washington, DC 20472, or send them by e-mail to rules@fema.gov. Please reference “REP: Planning and Preparing for a Fast-Breaking Event” in the subject line of your e-mail or comment letter.

FOR FURTHER INFORMATION CONTACT: Vanessa E. Quinn, Chief, Radiological Emergency Preparedness Branch, Technological Services Division, Federal Emergency Management Agency, 500 C Street, SW., Washington, DC 20472; (202) 646-3664; vanessa.quinn@dhs.gov.

SUPPLEMENTARY INFORMATION: Pursuant to completion of the REP Program exercise evaluation criteria, FEMA is proposing a means to evaluate the capability of OROs to respond to a fast-breaking event at a commercial nuclear power plant. The subject notice contains I. background information, II. the regulatory basis with a chart illustrating the alert and notification timeline, III. considerations when preparing a response to a fast-breaking event, IV. Evaluation Criterion 5.a.2 with the associated extent of play, and V. frequency of evaluation.

I. Background

FEMA published a Federal Register notice entitled “Radiological Emergency Preparedness: Exercise Evaluation Methodology” at 66 FR 47526, September 12, 2001, containing the REP exercise evaluation areas and associated criteria, effective as of October 1, 2001, for use when evaluating REP exercises. After publication, FEMA clarified some of the information in the September notice and published a notice of correction in the Federal Register at 67 FR 20580, April 25, 2002.

In both notices, FEMA deferred publication of proposed Criterion 5.a.2, which would evaluate an ORO's capability for urgent notification of the public in the event of a fast-breaking incident at the plant. FEMA is now going forward with publication of the draft criterion for comment.

II. Regulatory Basis

The aforementioned emergency preparedness-related Nuclear Regulatory Commission (NRC) and FEMA regulations and case law (Atomic Safety and Licensing Appeal Board ALAB-935) provide the regulatory bases for judging the adequacy of the offsite planning and preparedness for a response to a situation requiring urgent action.

Appendix E to 10 CFR Part 50 states:

[t]he licensee shall demonstrate that the State/local officials have the capability to make a public notification decision promptly on being informed by the licensee of an emergency condition.

It further states:

[t]he design objective of the prompt public notification system shall be to have the capability to essentially complete the initial notification of the public within the plume exposure pathway EPZ [emergency planning zone] within about 15 minutes. The use of this notification capability will range from immediate notification of the public (within 15 minutes of the time that State and local officials are notified that a situation exists requiring urgent action) to the more likely events where there is substantial time available for the State and local government officials to make a judgment whether or not to activate the public notification system.

The Atomic Safety and Licensing Appeal Board characterizes the timing requirement in Appendix E as about 15 minutes from the time offsite official(s) are notified and specifies that the “about 15 minutes” timeframe concludes when the notification message begins. Public Service Company of New Hampshire (Seabrook Station, Units 1 and 2) ALAB-935, 32 NRC 57 (1990).

FEMA regulation 44 CFR Part 350.5(a)(5) states, in part:

[p]rocedures have been established for notification, by the licensee, of State and local response organizations * * * and means to provide early notification and clear instruction to the populace within the plume exposure pathway Emergency Planning Zone have been established.

In order to fulfill the intent of the regulations and case law, that is, to ensure the ability to provide a rapid offsite response in the event of a severe nuclear power plant incident, we believe it is necessary to specify a timeframe for notification of the offsite official(s). Therefore, we have established an approximately 5-minute timeframe between the licensee's notification of the offsite communications point or, if in the plan, the communications point's verification of the notification, and the communications point's notification of offsite official(s).

The chart below illustrates the timeframes, as discussed above and as explained below in Evaluation Criterion 5.a.2, for demonstration of an offsite response to a fast-breaking event:

III. Considerations When Planning a Response to a Fast-Breaking Event

The licensee's notification will include a Protective Action Recommendation (PAR). The ORO is responsible for considering the recommendation and deciding whether to include a protective action in the initial Emergency Alert System (EAS) message and, if so, what the protective action should be. Some OROs may choose to implement the utility's PAR or a default protective action, pending an independent evaluation by responsible offsite officials. Other OROs—in light of the potential need to modify utility recommendations in cases of bad weather or other concurrent emergencies—have delegated such decision making authority to appropriate on-call ORO officials.

OROs may also choose to not include a protective action in the initial message. FEMA guidance at 66 FR 47546, September 12, 2001, permits an initial EAS message that does not contain a protective action but notifies the public of the need to stand by for further information. However, in light of the urgency of a fast-breaking event and the need for immediate response, OROs are strongly encouraged to include a protective action in the initial message. In most fast-breaking events the preferred initial protective action—as described in Supplement 3, “Criteria for Protective Action Recommendations,” to NUREG-0654/FEMA-REP-1, Rev. 1, “Criteria for Preparation and Evaluation of Radiological Emergency Response Plans and Preparedness in Support of Nuclear Power Plants''—is to evacuate immediately about two miles around the plant and about five miles downwind. The exception is a situation where there are other conditions, such as severe weather, that would make evacuation dangerous. In that instance the protective action would be to shelter-in-place.

IV. Evaluation Criterion 5.a.2

A. Criterion 5.a.2: In a situation that requires urgent action, responsible OROs demonstrate the capability to initiate public alerting and notification within the plume exposure EPZ within the following timeframes: (1) Notifying State and local officials within approximately 5 minutes of licensee's notification of the offsite communications point or, if in the plan, within approximately 5 minutes of the communication point's verification of the notification and (2) alerting the public and beginning notification of the public within about 15 minutes, but not to exceed 20 minutes, from notification of the State and local official(s). The initial instructional message to the public must include, at a minimum, the elements required by current FEMA REP guidance. (10 CFR part 50, Appendix E.IV.D.3, 44 CFR 350.5(a)(5), and NUREG-0654/FEMA-REP-1, E.5, 6, 7).

B. Demonstration of Fast-breaking Event: Demonstration of the process can be through a biennial exercise or an unannounced drill, separate from the biennial exercises, and will be scheduled within a seven-day window. Responsible parties may be told of the demonstration schedule window, but will not be told of a specific time for the demonstration. Real-life emergencies may preempt the demonstration, and these interruptions will not adversely affect the evaluation. The Extent of Play, shown below, generally establishes the type and level of detail to be demonstrated in the exercise that FEMA will be evaluating for Criterion 5.a.2.

C. Extent of Play: The criterion should be demonstrated using the staff, procedures, and equipment identified in the ORO's plan (for example, the plant notification line, the decision maker's notification system, the actual communications point, and personnel normally assigned to responsible duty locations). Actual activation of the public alerting system or notification system is not necessary. Appropriate simulations may be submitted by the ORO for FEMA's review and approval.

The evaluation begins when the ORO communications point receives the notification in accordance with approved procedures and, if specified in the plan, immediately verifies the notification. The first (approximately 5 minutes) time limit begins. Notification of responsible offsite official(s) should be performed in accordance with approved procedures and evaluated as to its completion within approximately 5 minutes. FEMA will time this period in order to support a judgment as to whether the performance achieved the desired result. The ORO must maintain a duty list showing that appropriate offsite official(s) who are authorized to approve the alerting of the public and broadcast of the EAS message are available at all times. Evaluation as to compliance with the timeframe (about 15 minutes, but no more than 20) begins when the ORO's communications point has completed its notification of the offsite official(s).

Decision making may involve conferring with staff or others, but the amount of time involved must be consistent with achieving the design criterion of about 15 minutes, but not more than 20. The decision making process should result in a decision to alert and notify the public. Activation of the public alerting system and performance of the first sounding cycle should be accomplished in accordance with approved procedures. Completion of the sounding cycle and the beginning of the notification message marks the end of the about 15 minute, but not more than 20, time period. FEMA will time this period in order to support a judgment as to whether the performance achieved the desired result. The information transmitted should be accurate and in accordance with current FEMA guidance.

All activities associated with the response to a fast-breaking event must be based on the ORO's plans and procedures and completed as they would be in an actual emergency, unless noted above or otherwise noted above or indicated in the extent of play agreement.

V. Frequency of Evaluation

FEMA will evaluate the initial demonstration of the process, using Evaluation Criterion 5.a.2, at every nuclear power plant site over the two years following final publication of this Criterion in the Federal Register. FEMA will assess a Deficiency if the applicable timeframes in the Criterion are not met. FEMA will then evaluate the ORO's capability a minimum of once every two years using Evaluation Criterion 5.a.2. FEMA will assess a Deficiency if the applicable timeframes are not met. In addition, the ORO should conduct a monthly fast-breaker communications drill and provide an annual summary in the Annual Letter of Certification.

Dated: August 12, 2003.
Michael D. Brown,
Under Secretary, Emergency Preparedness and Response.

[FR Doc. 03-21200 Filed 8-18-03; 8:45 am]

BILLING CODE 6718-06-P